DEPARTMENT OF TRANSPORTATION

Federal Aviation Administration

14 CFR Part 39

[Docket No. 99-NM-83-AD; Amendment 39-13031; AD 2003-03-07]

RIN 2120-AA64

Airworthiness Directives; Empresa Brasileira de Aeronautica S.A. (EMBRAER) Model EMB-145 Series Airplanes

AGENCY: Federal Aviation Administration, DOT.

ACTION: Final rule.

SUMMARY: This amendment adopts a new airworthiness directive (AD), applicable to certain EMBRAER Model EMB-145 series airplanes, that requires the installation of reinforcements in the lower portion of wing rib 15 on the left-hand and right-hand sides of the airplane. This amendment is prompted by issuance of mandatory continuing airworthiness information by a foreign civil airworthiness authority. The actions specified by this AD are intended to prevent reduced structural integrity of the wing flap support structure.

DATES: Effective March 5, 2003.

The incorporation by reference of certain publications listed in the regulations is approved by the Director of the Federal Register as of March 5, 2003.

ADDRESSES: The service information referenced in this AD may be obtained from Empresa Brasileira de Aeronautica S.A. (EMBRAER), P.O. Box 343—CEP 12.225, Sao Jose dos Campos—SP, Brazil. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Robert D. Breneman, Aerospace Engineer, International Branch, ANM-116, Transport Airplane Directorate, FAA, 1601 Lind Avenue, SW., Renton, Washington 98055-4056; telephone (425) 227-1263; fax (425) 227-1149.

SUPPLEMENTARY INFORMATION: A proposal to amend part 39 of the Federal Aviation Regulations (14 CFR part 39) to include an airworthiness directive (AD) that is applicable to certain EMBRAER Model EMB-145 series airplanes was published in the Federal Register on February 2, 2000 (65 FR 4902). That action proposed to require the installation of reinforcements in the lower portion of wing rib 15 on the left-hand and right-hand sides of the airplane.

Comments

Interested persons have been afforded an opportunity to participate in the making of this amendment. Due consideration has been given to the single comment received.

Request To Add Revised Service Information

The commenter asks that EMBRAER Service Bulletin 145-57-0008, Change No. 02, dated April 7, 1999, and Change No. 03, dated May 14, 1999, be added to paragraph (a) and Note 2 of the proposed AD as another source of service information for accomplishment of the specified actions. EMBRAER Service Bulletin 145-57-0008, Change No. 01, dated February 12, 1999, was referenced in the proposed AD as the appropriate source of service information for accomplishment of the actions.

The FAA agrees with the commenter. We have reviewed and approved EMBRAER Service Bulletin 145-57-0008, Change No. 02, dated April 7, 1999, and Change No. 03, dated May 14, 1999. We find that the revisions incorporated in these changes are not substantive, meaning that airplanes modified per Change No. 01 of the service bulletin are not subject to any additional work under Change No. 02 or 03 of the service bulletin. Therefore, we have revised paragraph (a) of this final rule to specify that Changes No. 02 and 03 of the service bulletin are considered to be acceptable methods of compliance with this AD.

Explanation of Change to Final Rule

Because the language in Note 2 of the proposed AD is regulatory in nature, that note has been redesignated as paragraph (b) of this final rule. Subsequent paragraphs have been reordered accordingly.

Conclusion

After careful review of the available data, including the comment noted above, the FAA has determined that air safety and the public interest require the adoption of the rule with the changes described previously. The FAA has determined that these changes will neither increase the economic burden on any operator nor increase the scope of the AD.

Cost Impact

The FAA estimates that 33 airplanes of U.S. registry will be affected by this AD, that it will take approximately 20 work hours per airplane to accomplish the required actions, and that the average labor rate is $60 per work hour. Required parts will cost approximately $3,124 per airplane. Based on these figures, the cost impact of the AD on U.S. operators is estimated to be $142,692, or $4,324 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-03-07 Embraer: Amendment 39-13031. Docket 99-NM-83-AD.

Applicability: Model EMB-145 series airplanes, serial numbers 145004 through 145058 inclusive, and 145060; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent reduced structural integrity of the wing flap support structure, accomplish the following:

Reinforcement Installation

(a) Prior to the accumulation of 8,000 total flight cycles, or within 45 days after the effective date of this AD, whichever occurs later, install reinforcements in the lower portion of rib 15 on the left-hand and right-hand sides of the airplane in accordance with EMBRAER Service Bulletin 145-57-0008, Change No. 01, dated February 12, 1999; Change No. 02, dated April 7, 1999; or Change No. 03, dated May 14, 1999.

(b) Installation in accordance with EMBRAER Service Bulletin 145-57-0008, dated October 21, 1998, accomplished prior to the effective date of this AD, is also acceptable for compliance with the requirements of paragraph (a) of this AD.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) Unless otherwise specified by this AD, the installation shall be done in accordance with EMBRAER Service Bulletin 145-57-0008, Change No. 01, dated February 12, 1999; EMBRAER Service Bulletin 145-57-0008, Change No. 02, dated April 7, 1999; or EMBRAER Service Bulletin 145-57-0008, Change No. 03, dated May 14, 1999. EMBRAER Service Bulletin 145-57-0008, Change No. 01, dated February 12, 1999, contains the following effective pages:

Page number | Change no. shown on page | Date shown on page
1, 2 | 01 | February 12, 1999.
3-10 | Original | October 21, 1998.

This incorporation by reference was approved by the Director of the Federal Register in accordance with 5 U.S.C. 552(a) and 1 CFR part 51. Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the Office of the Federal Register, 800 North Capitol Street, NW., suite 700, Washington, DC.

Note 3: The subject of this AD is addressed in Brazilian airworthiness directive 1999-01-02R1, dated March 15, 1999.

Effective Date

(f) This amendment becomes effective on March 5, 2003.

Issued in Renton, Washington, on January 22, 2003.
Vi L. Lipski,
Manager, Transport Airplane Directorate, Aircraft Certification Service.

[FR Doc. 03-1830 Filed 1-28-03; 8:45 am]

BILLING CODE 4910-13-P